FEDERAL COMMUNICATIONS COMMISSION

47 CFR Part 73

[DA 06-303, MB Docket No. 05-52, RM-10300]

Digital Television Broadcast Service; Johnstown and Jeannette, PA

AGENCY: Federal Communications Commission.

ACTION: Final rule.

SUMMARY: The Commission, at the request of Viacom Television Stations Group of Pittsburgh, Inc., licensee of station WNPA-DT, channel 30, Johnstown, Pennsylvania, substitutes DTV channel 49 for DTV channel 30 at Johnstown and re-allots DTV channel 49 from Johnstown to Jeannette, Pennsylvania. See 70 FR 10351, March 3, 2005. DTV channel 49 can be allotted to Jeannette, Pennsylvania, in compliance with the principle community coverage requirements of Section 73.625(a) at reference coordinates 40-23-34 N. and 79-46-54 W. with a power of 437, HAAT of 301 meters and with a DTV service population of 2851 thousand. Since the community of Jeannette is located within 400 kilometers of the U.S.-Canadian border, concurrence from the Canadian government has been obtained for this allotment. With this action, this proceeding is terminated.

DATES: Effective April 3, 2006.

FOR FURTHER INFORMATION CONTACT: Pam Blumenthal, Media Bureau, (202) 418-1600.

SUPPLEMENTARY INFORMATION: This is a synopsis of the Commission's Report and Order, MB Docket No. 05-52, adopted February 7, 2006, and released February 15, 2006. The full text of this document is available for public inspection and copying during regular business hours in the FCC Reference Information Center, Portals II, 445 12th Street, SW., Room CY-A257, Washington, DC. This document may also be purchased from the Commission's duplicating contractor, Best Copy and Printing, Inc., 445 12th Street, SW., Room CY-B402, Washington, DC, 20554, telephone 301-816-2820, facsimile 301-816-0169, or via-e-mail joshir@erols.com.

This document does not contain [new or modified] information collection requirements subject to the Paperwork Reduction Act of 1995 (PRA), Public Law 104-13. In addition, therefore, it does not contain any new or modified “information collection burden for small business concerns with fewer than 25 employees,” pursuant to the Small Business Paperwork Relief Act of 2002, Public Law 107-198, see 44 U.S.C. 3506(c)(4).

The Commission will send a copy of this Report & Order in a report to Congress and the Government Accountability Office pursuant to the Congressional Review Act, see 5 U.S.C. 801(a)(1)(A).

List of Subjects in 47 CFR Part 73

Digital television broadcasting, Television.

Part 73 of Title 47 of the Code of Federal Regulations is amended as follows:

PART 73—[AMENDED]

1. The authority citation for part 73 continues to read as follows:

Authority: 47 U.S.C. 154, 303, 334 and 336.

§ 73.622 [Amended]

2. Section 73.622(b), the Table of Digital Television Allotments under Pennsylvania, is amended by removing DTV channel 30 at Johnstown and adding Jeannette, DTV channel 49.

Federal Communications Commission.
Barbara A. Kreisman,
Chief, Video Division, Media Bureau.

[FR Doc. 06-1616 Filed 2-21-06; 8:45 am]

BILLING CODE 6712-01-P